DEPARTMENT OF ENERGY

Federal Energy Regulatory Commission

18 CFR Part 12

[Docket No. RM20-9-000; Order No. 880]

Safety of Water Power Projects and Project Works

Correction

In rule document 2021-27736, appearing on pages 1490-1520, in the issue of Tuesday, January 11, 2022, make the following changes:

§ 12.4 [Corrected].

1. On page 1514, in the first column, under amendatory instruction number 3, instruction “3c” currently reads, “Adding paragraphs (b)(2)(iii)(C) and (D);” should read, “Revising paragraphs (c)(1), (c)(2) introductory text, and (c)(3); and”

2. On page 1514, in the first column, under amendatory instruction number 3, instruction “3d” currently reads, “Revising paragraphs (c)(1), (c)(2) introductory text, and (c)(3); and” should read, “Adding paragraph (d).”

3. On page 1514, in the first column, under amendatory instruction number 3, instruction “3e” should be deleted.

§ 12.10 Reporting safety-related incidents [Corrected].

1. On page 1514, in the third column, amendatory instruction number “4(b)(5)” should read “4(b)(4)”

[FR Doc. C1-2021-27736 Filed 1-18-22; 8:45 am]

BILLING CODE 0099-10-P